FEDERAL COMMUNICATIONS COMMISSION

[GN Docket No. 17-83; DA 19-432]

Meeting of the Broadband Deployment Advisory Committee

AGENCY: Federal Communications Commission.

ACTION: Notice.

SUMMARY: In this document, the FCC announces and provides an agenda for the first meeting of the re-chartered Broadband Deployment Advisory Committee (BDAC).

DATES: Thursday, June 13, 2019. The meeting will come to order at 9:30 a.m.

ADDRESSES: Federal Communications Commission, 445 12th Street SW, Room TW-C305, Washington, DC 20554.

FOR FURTHER INFORMATION CONTACT: Justin L. Faulb, Designated Federal Authority (DFO) of the BDAC, at justin.faulb@fcc.gov or 202-418-1589; Darrel Pae, Deputy DFO of the BDAC, at darrel.pae@fcc.gov or 202-418-0687; or Zachary Ross, Deputy DFO of the BDAC, at Zachary.ross@fcc.gov or 202-418-1033. The TTY number is: (202) 418-0484.

SUPPLEMENTARY INFORMATION: This meeting is open to members of the general public. The FCC will accommodate as many participants as possible; however, admittance will be limited to seating availability. The FCC will also provide audio and/or video coverage of the meeting over the internet from the FCC's web page at www.fcc.gov/live. Oral statements at the meeting by parties or entities not represented on the BDAC will be permitted to the extent time permits, at the discretion of the BDAC Chair and the DFO. Members of the public may submit comments to the BDAC in the FCC's Electronic Comment Filing System, ECFS, at www.fcc.gov/ecfs. Comments to the BDAC should be filed in GN Docket No. 17-83.

Open captioning will be provided for this event. Other reasonable accommodations for people with disabilities are available upon request. Requests for such accommodations should be submitted via email to fcc504@fcc.gov or by calling the Consumer & Governmental Affairs Bureau at (202) 418-0530 (voice), (202) 418-0432 (TTY). Such requests should include a detailed description of the accommodation needed. In addition, please include a way for the FCC to contact the requester if more information is needed to fill the request. Please allow at least five days' advance notice; last minute requests will be accepted but may not be possible to accommodate.

Proposed Agenda: The agenda of the BDAC's first meeting will be to introduce the BDAC members, describe the working groups, assign members to working groups, and begin discussing how to accelerate the deployment of broadband by reducing and/or removing regulatory barriers to infrastructure investment. The BDAC will also receive a status report from the Disaster Response and Recovery Working Group. This agenda may be modified at the discretion of the BDAC Chair and the Designated Federal Officer (DFO).

Federal Communications Commission.
Pamela Arluk,
Chief, Competition Policy Division, Wireline Competition Bureau.

[FR Doc. 2019-11184 Filed 5-28-19; 8:45 am]

BILLING CODE 6712-01-P